DEPARTMENT OF COMMERCE

National Institute of Standards and Technology

ANSI/NIST-ITL Standards Update Workshop: Data Format for the Interchange of Fingerprint, Facial & Other Biometric Information

AGENCY: National Institute of Standards and Technology, Department of Commerce.

ACTION: Notice of open meeting.

SUMMARY: The National Institute of Standards and Technology (NIST) is hosting a public workshop to inform an update of the ANSI/NIST-ITL standard, “Data Format for the Interchange of Fingerprint, Facial & Other Biometric Information.” This event will be completely virtual and occur February 21-23, 2023, from 9:00 a.m.-4:00 p.m. Eastern Standard Time. The purpose of this workshop is to solicit recommendations to identify and pursue updates needed to the above-referenced standard.

DATES: The workshop will take place February 21-23, 2023 from 9:00 a.m.-4:00 p.m. Eastern Standard Time. Subject Matter Expert (SME) working group meetings will occur on February 22-23, 2023.

ADDRESSES: This meeting will be held virtually, and additional participation information and logistics will be provided once registration is completed.

FOR FURTHER INFORMATION CONTACT: Diane Stephens at diane.stephens@nist.gov or (301) 975-4493 or at biometrics-editor@nist.gov.

SUPPLEMENTARY INFORMATION: Law enforcement and related criminal justice agencies, as well as identity management organizations, procure equipment and systems intended to facilitate the determination of the personal identity of a subject or verify the identity of a subject using biometric information. To effectively exchange identity data across jurisdictional lines or between dissimilar systems made by different manufacturers, a standard is needed to specify a common format for the data exchange.

Biometric data refers to a digital or analog representation of a behavioral or physical characteristic of an individual that can be used by an automated system to distinguish an individual as belonging to a subgroup of the entire population or, in many cases, can be used to uniquely establish or verify the identity of a person (compared to a claimed or referenced identity). Biometric modalities specifically included in this standard are: fingerprints, plantars (footprints), palm prints, facial images, DNA and iris images. Identifying characteristics that may be used manually to establish or verify the identity of an individual are included in the standard. These identifying characteristics include scars, (needle) marks, tattoos, and certain characteristics of facial photos, iris images and images of other body parts. Latent friction ridge prints (fingerprint, palm print and plantars) are included in this standard and may be used in either an automated system or forensically (or both).

NIST's Information Technology Laboratory (ITL) led the development of this American National Standards Institute (ANSI) approved American National Standard using the NIST Canvass Method to demonstrate evidence of consensus. NIST, as the Editor of the ANSI/NIST-ITL Standard, is soliciting recommendations and/or presentations to highlight specific updates the community of interest may want included in the next update of this document. Hence, NIST is hosting a public workshop to update the ANSI/NIST-ITL 1-2001 Update: 2015 standard, “Data Format for the Interchange of Fingerprint, Facial & Other Biometric Information” (NIST Special Publication 500-290 Edition 3 (2015)). This event will be completely virtual and occur February 21-23, 2023, from 9:00 a.m.-4:00 p.m. Eastern Standard Time. Federal, industry, and academic stakeholders and interested parties who wish to participate in this workshop should please use this link to register: https://www.nist.gov/news-events/events/2023/02/ansi-nist-itl-standards-update-workshop.

Alicia Chambers,
NIST Executive Secretariat.

[FR Doc. 2023-03110 Filed 2-13-23; 8:45 am]

BILLING CODE 3510-13-P